DEPARTMENT OF THE INTERIOR

National Park Service

National Register of Historic Places; Notification of Pending Nominations and Related Actions

Nominations for the following properties being considered for listing or related actions in the National Register were received by the National Park Service before September 9, 2006. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 10, 2006.

John W. Roberts,
Acting Chief, National Register/National Historic Landmarks Program.

ALABAMA

Jefferson County

Birmingham Civil Rights Historic District, (Civil Rights Movement in Birmingham, Alabama MPS), Roughly bounded 9th Ave., Richard Arrington Jr. Blvd., 1st Ave. and 14th St., Birmingham, 06000940

ARKANSAS

Ashley County

Portland United Methodist Church, 300 N. Main St., Portland, 06000942

Pulaski County

Stifft Station Historic District, Bounded by W. Markham, W. 7th, Woodrow and Martin Sts., Little Rock, 06000941

NEW JERSEY

Cape May County

Brandywine Shoal Light Station, (Light Stations of the United States MPS) In lower Delaware Bay, about 8.8 mi. WNW of Cape May Point, Cape May Point, 06000943

OREGON

Multnomah County

Seufert House, 1511 Knott St., Portland, 06000944

WISCONSIN

Barron County

Stebbins, Edward N. and Mary T., House, 130 E. Division Ave., Barron, 06000945

[FR Doc. 06-8145 Filed 9-22-06; 8:45 am]

BILLING CODE 4312-51-P